DEPARTMENT OF COMMERCE

National Oceanic and Atmospheric Administration

RIN 0648-XD692

Availability of the Draft NOAA Fisheries Climate Science Strategy for Public Comment

AGENCY: National Marine Fisheries Service (NMFS), National Oceanic and Atmospheric Administration (NOAA), Commerce.

ACTION: Notice of availability; request for comments.

SUMMARY: NMFS is releasing the draft NMFS Climate Science Strategy (NCSS) for public review and comment. Additional information, including the Strategy for download may be found at: http://www.st.nmfs.noaa.gov/ecosystems/climate/.

DATES: Written comments must be received from January 21, 2015 through March 31, 2015.

ADDRESSES: You may submit comments on this document, identified NOAA-NMFS-2015-0010, by any of the following methods:

• Electronic Submissions: Submit all electronic public comments via the Federal eRulemaking Portal. Go to www.regulations.gov/#!docketDetail;D=NOAA-NMFS-2015-0010.

• click the “Comment Now!” icon, complete the required fields, and enter or attach your comments.

• Mail: Valerie Termini, NMFS, Office of Science and Technology, 1315 East-West Highway, Silver Spring, MD 20910. Include on the envelope the following identifier “NCSS Public Comment.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only. Please include page number and line number in your comments. Comments sent by any other method, to any other address or individual, or received after the end of the comment period, may not be considered by NMFS.

FOR FURTHER INFORMATION CONTACT: Additional information, including the Strategy for download may be found at http://www.st.nmfs.noaa.gov/ecosystems/climate/national-call-for-comments, or by contacting Roger Griffis, Climate Change Coordinator, NMFS, Silver Spring, MD 20910, 301-427-8134 or email: roger.b.griffis@noaa.gov.

SUPPLEMENTARY INFORMATION:

Summary of Report

Warming oceans, rising seas and ocean acidification are impacting the marine life off of our coasts, disrupting fisheries and local economies. These impacts are expected to increase with continued changes in the planet's climate and ocean systems. There is much at risk. For example, ocean-related fisheries generate $200 billion in sales and support 1.7 million jobs nationally each year.¹

¹ “Fisheries Economics of the U.S,” NOAA Office of Science and Technology, http://www.st.nmfs.noaa.gov/economics/publications/feus/fisheries_economics_2012.

These current and possible future climate-related changes also affect NOAA's ability to fulfill its stewardship mandates for marine resources and the communities that depend on them. The goal of the draft Climate Science Strategy is to increase the production, delivery, and use of climate-related information to apprise and fulfill NMFS LMR stewardship mandates in a changing climate, including the Magnuson-Stevens Act, Endangered Species Act, Marine Mammal Protection Act, National Environmental Policy Act and others.

The draft Climate Science Strategy identifies seven key steps to improve the production and use of climate-related information to fulfill agency mandates and increase the resilience of marine resources and resource-dependent sectors and communities. The Strategy is designed to provide a nationally consistent framework to guide development and implementation of regional actions. The Strategy proposes specific near and medium-term recommendations, and identifies priority recommendations that are common across mandates, regions, objectives and living marine resources.

Implementation of the Strategy over the next five years is crucial for effective fulfillment of NMFS mission and mandates with changing climate and ocean conditions. Implementation of the Strategy will increase the production and delivery of climate-related information needed by NMFS and partners to reduce impacts and increase resilience of marine resources and the communities that depend on them.

NMFS works with and depends on many partners to fulfill its science and information needs from other federal agencies to academia, fisheries and other organizations. As such, we are providing this opportunity for broad public review and comment on the draft Strategy.

Dated: January 16, 2015.
Stephen K. Brown,
Acting Director, Office of Science and Technology, National Marine Fisheries Service.

[FR Doc. 2015-01168 Filed 1-22-15; 8:45 am]

BILLING CODE 3510-22-P